DEPARTMENT OF HOMELAND SECURITY

Transportation Security Administration

Revision of an Agency Information Collection Activity Under OMB Review: Security Appointment Center (SAC) Visitor Request Form and Foreign National Vetting Request

AGENCY: Transportation Security Administration, DHS.

ACTION: 30-Day notice, withdrawal.

SUMMARY: This notice serves to withdraw the previous Federal Register notice on this subject, published May 1, 2020 (85 FR 25469). The notice will be republished at a later date, allowing the full run of the 60-day notice, published March 4, 2020 (85 FR 12800).

Dated: May 7, 2020.
Christina A. Walsh,
TSA Paperwork Reduction Act Officer, Information Technology.

[FR Doc. 2020-10096 Filed 5-11-20; 8:45 am]

BILLING CODE 9110-05-P